DEPARTMENT OF COMMERCE

Submission for OMB Review: Comment Request

The Department of Commerce (DOC) has submitted to the Office of Management and Budget (OMB) for clearance of the following proposal for collection of information under the provisions of the Paperwork Reduction Act of 1995, Public Law 104-13.

Agency: International Trade Administration (ITA).

Title: Certified Trade Mission: Application for Status.

Agency Form Number: ITA-4127P.

OMB Approval Number: 0625-0215.

Type of Request: Regular submission.

Burden Hours: 60.

Number of Respondents: 60.

Average Hours Per Response: 1.

Needs and Uses: Certified Trade Missions are overseas events that are planned, organized and led by both Federal and non-Federal government export promotion agencies such as industry trade associations, agencies of state and local governments, chambers of commerce, regional groups and other export-oriented groups. The Certified Trade Mission-Application for Status form is the vehicle by which individual firms apply, and if accepted, agree to participate in the Department of Commerce's trade promotion events program, identify the products or services they intend to sell or promote, and record their required participation fees. This submission only renews use of the form; no changes are being made. The form is used to (1) collect information about the products/services that a company wishes to export; (2) evaluate applicants' mission goals and the marketability of product categories/industry in the local market, and (3) to develop meeting schedules appropriate to these.

Affected Public: Business or other for profit organizations, and not-for-profit institutions.

Frequency: On occasion.

Respondent's Obligation: Required to obtain or retain a benefit; voluntary.

OMB Desk Officer: David Rostker, (202) 395-3897.

Copies of the above information collection can be obtained by calling or writing Madeleine Clayton, Departmental Paperwork Clearance Officer, (202) 482-3129, Department of Commerce, Room 6608, 14th & Constitution Avenue, NW, Washington, DC 20230 or via the Internet at Mclayton@doc.gov.

Written comments and recommendations for the proposed information collection should be sent to David Rostker, OMB Desk Officer, Room 10202, New Executive Office Building, Washington, DC 20503 within 30 days of the publication of this notice in the Federal Register.

Dated: March 13, 2002.
Gwellnar Banks,
Management Analyst, Office of the Chief Information Officer.

[FR Doc. 02-6519 Filed 3-18-02; 8:45 am]

BILLING CODE 3510-FP-P